DEPARTMENT OF TRANSPORTATION

Federal Aviation Administration

14 CFR Part 71

[Docket No. FAA-2022-0932; Airspace Docket No. 21-AEA-22]

RIN 2120-AA66

Amendment and Establishment of Area Navigation (RNAV) Routes; Eastern United States

AGENCY: Federal Aviation Administration (FAA), DOT.

ACTION: Final rule; correction.

SUMMARY: This action corrects a final rule published by the FAA in the Federal Register on December 7, 2022, that, in part, amends navigation (RNAV) routes T-315, and T-325. In the amended route T-315, the final rule identified the DVANY, WP, CT, route point as a waypoint (WP) in error. In the amended T-325, the final rule identified the START, IL, route point and the DEBOW, WI, as WPs in error. This action makes editorial corrections to the DVANY, CT, START, IL, and DEBOW, WI, WPs to change them to be reflected as Fixes. This correction is necessary to match the FAA National Airspace System Resource (NASR) database information.

DATES: Effective date 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule in the Federal Register for Docket No. FAA-2022-0932, in the Federal Register (87 FR 74962; December 7, 2022) amending, in part, RNAV routes T-315 and T-325. Subsequent to the publication, the FAA determined that the DVANY, CT, START, IL, and DEBOW, WI, route points were inadvertently identified as WPs, in error. The correct reference for the three points is a Fix. This rule corrects the errors by changing the reference of the DVANY, CT, WP to the DVANY, CT, Fix; the START, IL, WP to the START, IL, Fix; and the DEBOW, WI, WP to the DEBOW, WI, Fix.

These are editorial changes only to match the FAA NASR database information and do not alter the alignment of routes T-315 or T-325.

United States RNAV T-routes are published in paragraph 6011, and RNAV Q-routes are published in paragraph 2006, respectively, of FAA Order JO 7400.11G, dated August 19, 2022, and effective September 15, 2022, which is incorporated by reference in 14 CFR 71.1. The RNAV routes listed in this document will be published subsequently in FAA Order JO 7400.11.

Correction to Final Rule

The references to the DEVANY, CT, START, IL, and DEBOW, WI, WPs, as published in the Federal Register of December 7, 2022 (87 FR 74962), FR Doc. 2022-26489, is corrected as follows:

On page 74964, correct the table for T-315 JARLO, WV to Burlington, VT (BTV) [Amended] to read:

T-315 JARLO, WV to Burlington, VT (BTV) [Amended]
JARLO, WV | WP | (Lat. 38°20′58.85″ N, long. 081°46′11.68″ W)
SHANE, WV | WP | (Lat. 37°58′31.15″ N, long. 080°48′24.34″ W)
DBRAH, VA | WP | (Lat. 37°20′34.14″ N, long. 080°04′10.75″ W)
SPNKS, VA | WP | (Lat. 37°17′21.31″ N, long. 079°33′17.14″ W)
KONRD, VA | WP | (Lat. 37°20′39.83″ N, long. 079°01′33.27″ W)
CRUMB, VA | FIX | (Lat. 37°28′09.44″ N, long. 078°08′27.69″ W)
Flat Rock, VA (FAK) | VORTAC | (Lat. 37°31′42.63″ N, long. 077°49′41.59″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, MD | WP | (Lat. 38°20′16.21″ N, long. 076°26′10.51″ W)
PRNCZ, MD | WP | (Lat. 38°37′38.10″ N, long. 076°05′08.20″ W)
CHOPS, MD | FIX | (Lat. 38°45′41.81″ N, long. 075°57′36.18″ W)
COSHA, DE | WP | (Lat. 38°57′57.57″ N, long. 075°30′51.59″ W)
Atlantic City, NJ (ACY) | VORTAC | (Lat. 39°27′21.15″ N, long. 074°34′34.73″ W)
PANZE, NJ | FIX | (Lat. 39°40′33.58″ N, long. 074°10′05.45″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
TRANZ, NY | FIX | (Lat. 40°51′31.95″ N, long. 073°22′30.80″ W)
PUGGS, NY | FIX | (Lat. 40°56′27.65″ N, long. 073°13′47.73″ W)
EEGOR, CT | WP | (Lat. 41°09′38.94″ N, long. 073°07′27.66″ W)
Hartford, CT (HFD) | VOR/DME | (Lat. 41°38′27.98″ N, long. 072°32′50.70″ W)
DVANY, CT | FIX | (Lat. 41°51′44.56″ N, long. 072°18′11.25″ W)
Gardner, MA (GDM) | VOR/DME | (Lat. 42°32′45.31″ N, long. 072°03′29.48″ W)
KEYNN, NH | WP | (Lat. 42°47′39.99″ N, long. 072°17′30.35″ W)
EBERT, VT | FIX | (Lat. 43°32′58.08″ N, long. 072°45′42.45″ W)
Burlington, VT (BTV) | VOR/DME | (Lat. 44°23′49.58″ N, long. 073°10′57.48″ W)

* * * * *

On page 74964, correct the table for T-325 RAMRD, KY to Oshkosh, WI (OSH) [Amended] to read:

T-325 RAMRD, KY to Oshkosh, WI (OSH) [Amended]
RAMRD, KY | WP | (Lat. 36°55′44.04″ N, long. 086°26′36.58″ W)
RENRO, KY | WP | (Lat. 37°28′50.53″ N, long. 086°39′19.25″ W)
APALO, IN | FIX | (Lat. 38°00′20.59″ N, long. 086°51′35.27″ W)
JIBKA, IN | WP | (Lat. 39°30′08.93″ N, long. 087°16′26.74″ W)
SMARS, IL | WP | (Lat. 41°07′38.18″ N, long. 088°51′38.22″ W)
TRENM, IL | WP | (Lat. 41°17′24.93″ N, long. 089°00′27.53″ W)
START, IL | FIX | (Lat. 41°45′24.83″ N, long. 089°00′21.81″ W)
GRIFT, IL | WP | (Lat. 42°17′28.14″ N, long. 088°53′41.42″ W)
DEBOW, WI | FIX | (Lat. 42°44′08.30″ N, long. 088°50′48.92″ W)
LUNGS, WI | WP | (Lat. 43°02′43.66″ N, long. 088°56′54.86″ W)
HOMNY, WI | WP | (Lat. 43°31′02.22″ N, long. 088°39′40.15″ W)
Oshkosh, WI (OSH) | VORTAC | (Lat. 43°59′25.56″ N, long. 088°33′21.36″ W)

* * * * *

Issued in Washington, DC, on December 15, 2022.
Scott M. Rosenbloom,
Manager, Airspace Rules and Regulations.

[FR Doc. 2022-27545 Filed 12-19-22; 8:45 am]

BILLING CODE 4910-13-P